DEPARTMENT OF COMMERCE

National Oceanic and Atmospheric Administration

50 CFR Part 622

[Docket No. 160426363-7275-02]

RIN 0648-BG03

Fisheries of the Caribbean, Gulf of Mexico, and South Atlantic; Coastal Migratory Pelagic Resources in the Gulf of Mexico and Atlantic Region; Amendment 26

AGENCY: National Marine Fisheries Service (NMFS), National Oceanic and Atmospheric Administration (NOAA), Commerce.

ACTION: Final rule.

SUMMARY: NMFS issues regulations to implement management measures described in Amendment 26 to the Fishery Management Plan for the Coastal Migratory Pelagics Fishery of the Gulf of Mexico and Atlantic Region (FMP) as prepared and submitted jointly by the Gulf of Mexico Fishery Management Council (Gulf Council) and South Atlantic Fishery Management Council (South Atlantic Council). Amendment 26 and this final rule adjust the management boundary for the Gulf of Mexico (Gulf) and Atlantic migratory groups of king mackerel; revise acceptable biological catch (ABC), commercial and recreational annual catch limits (ACLs), commercial quotas and recreational annual catch targets (ACTs) for Atlantic migratory group king mackerel; allow limited retention and sale of Atlantic migratory group king mackerel incidentally caught in the shark gillnet fishery; establish a commercial split season for Atlantic migratory group king mackerel in the Atlantic southern zone; establish a commercial trip limit system for Atlantic migratory group king mackerel in the Atlantic southern zone; revise the commercial and recreational ACLs for Gulf migratory group king mackerel; revise commercial zone quotas for Gulf migratory group king mackerel; and modify the recreational bag limit for Gulf migratory group king mackerel. The purpose of Amendment 26 and this final rule is to ensure that king mackerel management is based on the best scientific information available, while increasing the social and economic benefits of the fishery.

DATES: This final rule is effective May 11, 2017.

ADDRESSES: Electronic copies of Amendment 26 may be obtained from the Southeast Regional Office Web site at http://sero.nmfs.noaa.gov/sustainable_fisheries/gulf_sa/cmp/2016/am%2026/index.html. Amendment 26 includes an environmental assessment, a Regulatory Flexibility Act (RFA) analysis, and a regulatory impact review.

FOR FURTHER INFORMATION CONTACT: Karla Gore, Southeast Regional Office, NMFS, telephone: 727-824-5305, or email: karla.gore@noaa.gov.

SUPPLEMENTARY INFORMATION: The coastal migratory pelagic fishery of the Gulf and Atlantic Regions is managed under the FMP and includes the management of the Gulf and Atlantic migratory groups of king mackerel, Spanish mackerel, and cobia. The FMP was prepared jointly by the Gulf and South Atlantic Councils (Councils) and is implemented through regulations at 50 CFR part 622 under authority of the Magnuson-Stevens Fishery Conservation and Management Act (Magnuson-Stevens Act).

On December 14, 2016, NMFS published a notice of availability for Amendment 26 and requested public comment (81 FR 90314). On December 29, 2016, NMFS published a proposed rule for Amendment 26 and requested public comment (81 FR 95941). The proposed rule and Amendment 26 outline the rationale for the actions contained in this final rule. A summary of the management measures described in Amendment 26 and implemented by this final rule is provided below.

Management Measures Contained in This Final Rule

This final rule to implement Amendment 26 adjusts the management boundary of the Gulf and Atlantic migratory groups of king mackerel; revises management reference points, the commercial and recreational ACLs, commercial quotas and recreational ACTs for Atlantic migratory group king mackerel; allows limited retention and sale of incidental catch of Atlantic migratory group king mackerel in the shark gillnet fishery; establishes a commercial split season for Atlantic migratory group king mackerel in the Atlantic southern zone; establishes a commercial trip limit system for Atlantic migratory group king mackerel in the Atlantic southern zone; revises commercial and recreational ACLs for Gulf migratory group king mackerel; revises commercial zone quotas for Gulf migratory group king mackerel; and modifies the recreational bag limit for Gulf migratory group king mackerel.

Management Boundary and Zone Descriptions for the Gulf and Atlantic Migratory Groups of King Mackerel

Currently, management boundaries change seasonally for the Gulf and Atlantic migratory groups of king mackerel based on the historical understanding that the two migratory groups mixed seasonally off the east coast of Florida and in Monroe County, FL. However, in 2014, the Southeast Data, Assessment, and Review (SEDAR) 38 stock assessment (SEDAR 38) determined that the mixing zone between the two migratory groups now exists only in the portion of the Exclusive Economic Zone (EEZ) off Monroe County, Florida, south of the Florida Keys. This final rule sets a single year-round regulatory boundary (Gulf/Atlantic group boundary) separating management of the two migratory groups of king mackerel, based on the genetic analysis used in SEDAR 38. This new year-round Gulf/Atlantic group boundary is set at a line extending east from the Miami-Dade/Monroe County, FL, boundary, to better represent the area where the two migratory groups primarily exist. The newly defined mixing zone off the Florida Keys is included in the Gulf migratory group and will be managed by the Gulf Council.

This final rule renames the Gulf migratory group's current eastern zone-northern subzone and eastern zone-southern subzone as the northern zone and southern zone, respectively. The southern zone includes the new mixing zone, extending east to the new Gulf/Atlantic group boundary. The name and dimensions of the Gulf migratory group's western zone remain the same. The Atlantic migratory group's northern zone also remains unchanged. This final rule shifts the southern boundary of the Atlantic migratory group's southern zone to the new Gulf/Atlantic group boundary. Due to this shift, the current Florida east coast subzone will no longer exist. Instead, that area will be included in the Atlantic migratory group's southern zone year-round.

NMFS notes that the final rule for Amendment 26 will be effective after the end of the fishing year for Atlantic migratory group king mackerel. As described in Amendment 26 and the proposed rule, landings from the Florida east coast subzone for the 2016/17 fishing year will be attributed to the Atlantic southern zone quota. Therefore, any landings from the Florida east coast subzone between November 1, 2016, and March 31, 2017, will count against the Atlantic southern zone king mackerel commercial 2016/17 quota.

This rule does not change the current Federal fishing permitting requirements for fishing for king mackerel in Gulf and Atlantic Federal waters.

Atlantic Migratory Group King Mackerel ACLs, Commercial Quotas and Recreational ACTs

This final rule revises the overfishing limits and ABCs for Atlantic migratory group king mackerel based on SEDAR 38 and the South Atlantic Council's Scientific and Statistical Committee (SSC) recommended ABCs based on a high recruitment scenario. The Atlantic migratory group ABC will gradually decrease from 17.4 million lb (7.89 million kg) in the 2016-2017 fishing year to 12.7 million lb (5.76 million kg) in the 2019-2020 fishing year.

Amendment 26 and this final rule also set the Atlantic migratory group stock ACL equal to optimum yield (OY) and the new ABC. The Atlantic migratory group's sector allocation (37.1 percent of the ACL to the commercial sector and 62.9 percent of the ACL to the recreational sector) will not change. This final rule revises the commercial ACLs for the Atlantic migratory group to be 6.5 million lb (2.9 million kg) for the 2016-2017 fishing year, 5.9 million lb (2.7 million kg) for the 2017-2018 fishing year, 5.2 million lb (2.4 million kg) for the 2018-2019 fishing year, and 4.7 million lb (2.1 million kg) for the 2019-2020 fishing year and subsequent fishing years. This final rule revises the recreational ACLs for the Atlantic migratory group to be 10.9 million lb (4.9 million kg) for the 2016-2017 fishing year, 9.9 million lb (4.5 million kg) for the 2017-2018 fishing year, 8.9 million lb (4.0 million kg) for the 2018-2019 fishing year, and 8.0 million lb (3.6 million kg) for the 2019-2020 fishing year and subsequent fishing years. The recreational sector ACTs for the Atlantic migratory group are set at 10.1 million lb (4.6 million kg) for the 2016-2017 fishing year, 9.2 million lb (4.2 million kg) for the 2017-2018 fishing year, 8.3 million lb (3.8 million kg) for the 2018-2019 fishing year, and 7.4 million lb (3.4 million kg) for the 2019-2020 fishing year and subsequent fishing years.

The commercial ACLs for Atlantic migratory group king mackerel are divided each fishing year between the northern zone (23.04 percent) and southern zone (76.96 percent) into their respective commercial quotas. The commercial quotas for the Atlantic northern zone are 1,497,600 lb (679,300 kg) for the 2016-17 fishing year, 1,359,360 lb (616,595 kg) for the 2017-2018 fishing year, 1,198,080 lb (543,440 kg) for the 2018-2019 fishing year, and 1,082,880 lb (491,186 kg) for the 2019-2020 fishing year and subsequent years. The commercial quotas for the Atlantic southern zone are 5,002,400 lb (2,269,050 kg) for the 2016-2017 fishing year, 4,540,640 lb (2,059,600 kg) for the 2017-2018 fishing year, 4,001,920 lb (1,815,240 kg) for the 2018-2019 fishing year, and 3,617,120 lb (1,640,698 kg) for the 2019-2020 fishing year and subsequent fishing years.

Incidental Catch of Atlantic Migratory Group King Mackerel Caught in the Shark Gillnet Fishery

Amendment 20A to the FMP prohibited recreational bag limit sales of king mackerel by commercially permitted king mackerel fishermen in South Atlantic Council jurisdictional waters, which included king mackerel incidentally caught on directed commercial shark trips (79 FR 34246, June 16, 2014). Through this final rule, a vessel in the Atlantic exclusive economic zone (EEZ) that is engaged in directed shark fishing with gillnets that has both a valid Federal shark directed commercial permit and a valid Federal king mackerel commercial permit will be allowed to retain a limited number of king mackerel. In the Atlantic northern zone, no more than three king mackerel per crew member may be retained or sold per trip. In the Atlantic southern zone, no more than two king mackerel per crew member may be retained or sold per trip. These incidentally caught king mackerel may be retained or sold only to a dealer with a valid Federal Gulf and South Atlantic dealer permit.

The incidental catch allowance does not apply to commercial shark trips that are using an authorized gillnet for Atlantic migratory group king mackerel north of 34°37.3′ N. lat, the latitude of Cape Lookout Light, NC, where the commercial trip limit of 3,500 lb (1,588 kg) applies. No type of gillnet is an allowable gear for Atlantic migratory group king mackerel south of Cape Lookout Light.

Commercial Split Seasons for Atlantic Migratory Group King Mackerel in Atlantic Southern Zone

Currently, the commercial fishing year for Atlantic migratory group king mackerel is March 1 through the end of February, and the commercial ACLs for the Atlantic northern zone and southern zone are allocated for the entire fishing year. This final rule divides the annual Atlantic migratory group commercial quota for the Atlantic southern zone into two commercial seasons. The Atlantic northern zone quota will not be split. This final rule allocates 60 percent of the Atlantic southern zone commercial quota to the first season of March 1 through September 30, and 40 percent to the second of October 1 through the end of February. This commercial split season for the Atlantic southern zone quota is intended to ensure that a portion of the southern zone's quota is available in later months of the fishing year, which will allow for increased fishing opportunities in that area during more of the fishing year.

The seasonal commercial quotas for the first season of March 1 through September 30, in the southern zone are: 3,001,440 lb (1,361,430 kg) for the 2016-2017 fishing year, 2,724,384 lb (1,235,760 kg) for the 2017-2018 fishing year, 2,401,152 lb (1,089,144 kg) for the 2018-2019 fishing year, and 2,170,272 lb (984,419 kg) for the 2019-2020 fishing year and subsequent fishing years. The seasonal commercial quotas for the second season of October 1 through the end of February in the southern zone are: 2,000,960 lb (907,620 kg) for the 2016-2017 fishing year, 1,816,256 lb (823,840 kg) for the 2017-2018 fishing year, 1,600,768 lb (726,096 kg) for the 2018-2019 fishing year, and 1,446,848 lb (656,279 kg) for the 2019-2020 fishing year and subsequent years.

Commercial Trip Limit System for the Atlantic Migratory Group of King Mackerel in the Atlantic Southern Zone

This final rule revises the commercial trip limits for Atlantic migratory group king mackerel in the Atlantic southern zone, based on the revised management boundary and split commercial season. During the first commercial season (March 1 through September 30), in the area between the Flagler/Volusia County, FL, boundary (29°25′ N. lat.), and the Miami-Dade/Monroe County, FL, boundary (25°20.24″ N. lat.), the trip limit will be 50 fish during March. From April 1 through September 30, the trip limit will be 75 fish, unless NMFS determines that 75 percent or more of the Atlantic southern zone quota for the first season has been landed, then the trip limit will be 50 fish. During the second commercial season (October 1 through the end of February), the trip limit will be 50 fish for the area between the Flagler/Volusia County, FL, boundary, and the the Miami-Dade/Monroe County, FL, boundary from October 1 through January 31. During the month of February, the trip limit will remain 50 fish, unless NMFS determines that less than 70 percent of the commercial quota for the southern zone's second season has been landed, then the trip limit will be 75 fish.

This final rule does not revise the 3,500 lb (1,588 kg) year-round trip limit for Atlantic migratory group king mackerel north of the Flagler/Volusia County, FL, boundary.

Gulf Migratory Group King Mackerel ACLs

The current ABC and total ACL for Gulf migratory group king mackerel is 10.8 million lb (4.89 million kg). This final rule revises the total ACLs for the Gulf migratory group of king mackerel to be equal to the ABCs recommended by the Gulf Council's SSC: 9.21 million lb (4.18 million kg) for the 2016-2017 fishing year, 8.88 million lb (4.03 million kg) for the 2017-2018 fishing year, 8.71 million lb (3.95 million kg) for the 2018-2019 fishing year, and 8.55 million lb (3.88 million kg) for the 2019-2020 fishing year.

This final rule does not revise the current recreational and commercial allocations of Gulf migratory group king mackerel (68 percent of the total ACL to the recreational sector and 32 percent to the commercial sector). Based on the existing allocations, and the revisions to the total ACLs for Gulf migratory group king mackerel in this final rule, the commercial ACLs for Gulf migratory group king mackerel are: 2.95 million lb (1.34 million kg) for the 2016-2017 fishing year, 2.84 million lb (1.29 million kg) for the 2017-2018 fishing year, 2.79 million lb (1.27 million kg) for the 2018-2019 fishing year, and 2.74 million lb (1.24 million kg) for the 2019-2020 fishing year and subsequent fishing years.

These Gulf migratory group commercial ACLs are further divided into gear-specific commercial ACLs, for hook-and-line gear, and for vessels fishing with run-around gillnet gear, which is only an authorized gear in the southern zone. The hook-and-line component commercial ACLs (which applies to the entire Gulf) are: 2,330,500 lb (1,057,097 kg) for the 2016-2017 fishing year, 2,243,600 lb (1,017,680 kg) for the 2017-2018 fishing year, 2,204,100 lb (999,763 kg) for the 2018-2019 fishing year, and 2,164,600 lb (981,846 kg) for the 2019-2020 fishing year and subsequent years. The run-around gillnet component commercial ACLs (which applies to the Gulf southern zone) are: 619,500 lb (281,000 kg) for the 2016-2017 fishing year, 596,400 lb (270,522 kg) for the 2017-2018 fishing year, 585,900 lb (265,760 kg) for the 2018-2019 fishing year, and 575,400 lb (260,997 kg) for the 2019-2020 fishing year and subsequent fishing years.

The recreational ACLs for Gulf migratory group king mackerel are: 6.26 million lb (2.84 million kg) for the 2016-2017 fishing year, 6.04 million lb (2.74 million kg) for the 2017-2018 fishing year, 5.92 million lb (2.69 million kg) for the 2018-2019 fishing year, and 5.81 million lb (2.64 million kg) for the 2019-2020 fishing year and subsequent fishing years.

Commercial Zone Quotas for Gulf Migratory Group King Mackerel

Amendment 26 and this final rule also revise the Gulf migratory group commercial zone quotas, because of the changes to the Councils' regulatory management boundary and resultant zone revisions. The current allocation of the commercial zone quota for Gulf migratory group king mackerel by zones is 31 percent in the western zone, 5.17 percent in the northern zone, 15.96 percent for the southern zone using hook-and-line gear, 15.96 percent for the southern zone using gillnet gear, and 31.91 percent for the Florida east coast subzone. However, under this final rule, the Florida east coast subzone will no longer exist. The quota associated with the Florida east coast subzone is re-allocated to the remaining zones. The revised allocation of commercial zone quotas for Gulf migratory group king mackerel is: 40 percent in the western zone, 18 percent in the northern zone, 21 percent for the southern zone using hook-and-line gear, and 21 percent for the southern zone using gillnet gear.

The commercial quotas for the Gulf western zone are: 1,180,000 lb (535,239 kg) for the 2016-2017 fishing year, 1,136,000 lb (515,281 kg) for the 2017-2018 fishing year, 1,116,000 lb (506,209 kg) for the 2018-2019 fishing year, and 1,096,000 lb (497,137 kg) for the 2019-2020 fishing year and subsequent fishing years.

The commercial quotas for the Gulf northern zone are: 531,000 lb (240,858 kg) for the 2016-2017 fishing year, 511,200 lb (231,876 kg) for the 2017-2018 fishing year, 502,200 lb (227,794 kg) for the 2018-2019 fishing year, and 493,200 lb (223,712 kg) for the 2019-2020 fishing year and subsequent fishing years.

The commercial hook-and-line and commercial run-around gillnet component quotas in the southern zone are equal for each fishing year: 619,500 lb (281,000 kg) for the 2016-2017 fishing year, 596,400 lb (270,522 kg) for the 2017-2018 fishing year, 585,900 lb (265,760 kg) for the 2018-2019 fishing year, and 575,400 lb (260,997 kg) for the 2019-2020 fishing year and subsequent fishing years.

Recreational Bag Limit for Gulf Migratory Group of King Mackerel

This final rule will increase the recreational bag limit for Gulf migratory group king mackerel from 2 fish per person per trip to 3 fish per person per trip. In Amendment 26, the Councils considered, but rejected, the possibility of reallocating from the recreational ACL to the commercial ACL. The Councils instead decided to increase the recreational bag limit for Gulf migratory group king mackerel, as this increased recreational bag limit will allow more opportunities for recreational anglers to harvest the recreational sector's ACL.

Comments and Responses

A total of 28 comment submissions were received on the proposed rule and Amendment 26 from both commercial and recreational fishers, industry groups, the Councils, and one Federal agency. Of the comments received, 20 comment submissions expressed general support for the actions within Amendment 26. Several comments raised issues outside the scope of Amendment 26 and the proposed rule, including requests for a shark gillnet bycatch allowance for species not in the FMP, a change to the king mackerel minimum size limit, and a prohibition on gillnets. Because those comments are outside of the scope of the actions considered in Amendment 26 and the proposed rule, NMFS is not providing responses in this final rule. NMFS identified six specific comments related to Amendment 26 and its proposed rule. These six specific comments and NMFS' respective responses are summarized below.

Comment 1: NMFS should expedite implementation of the final rule for Amendment 26 by waiving the 30-day delay in effectiveness for the regulations in this final rule. Implementation of these regulations will provide economic and social benefits to commercial and recreational fishermen and associated businesses and communities across the South Atlantic, Mid-Atlantic, and Gulf by increasing the king mackerel quotas. In addition, the regulations will align management for this species with the best scientific information available.

Response: The Administrative Procedure Act (APA) sets forth specific provisions governing Federal agency rulemaking. As described in 5 U.S.C. 553(d), the APA requires the publication of a rule not less than 30 days prior to its effective date, except where certain conditions are met. Waiver of the requirement for this 30-day delay in effectiveness (cooling off period), may only be granted where (1) a the substantive rule grants or recognize a exemption or relieves a restriction, (2) the rule is an interpretative rule or statement of policy, or (3) the Agency find good cause for waiver of the cooling off period.

For this final rule, NMFS considered waiving the 30-day cooling off period for the entire final rule or for actions within the amendment and determined that waiver is not appropriate. While certain actions within Amendment 26, such as the revisions to the Gulf and Atlantic migratory group ACLs and quotas, relieve a restriction, this final rule contains many actions that are interconnected, including actions that do not clearly relieve a restriction. The revised quotas are directly related to the revised management boundary and associated changes to the zone system for the Gulf and the Atlantic migratory groups of king mackerel. Implementation of the revised management zones is tied to other management actions within this final rule and Amendment 26, such as commercial trip limits, which impose a restriction and would not qualify for a waiver under the APA. Because the revised quotas directly relate to the revised management boundary and the associated changes to the zone system for Gulf and Atlantic migratory groups of king mackerel, NMFS determined that it would be impractible to waive the cooling off period for this final rule, as requested by the Councils. The measures in this final rule will be effective 30 days after publication in the Federal Register.

Comment 2: The proposed action to establish a year-round management boundary at the Miami-Dade/Monroe county line will negatively impact the Florida Keys hook-and-line king mackerel fishermen that depend on the season opening under the Atlantic migratory group commercial quota on April 1. This April 1 season opening has historically been crucial to the financial viability of king mackerel fishing in the Florida Keys.

Response: The year-round boundary at the Miami-Dade/Monroe county line established through this final rule will eliminate the seasonal boundary shift currently in place. Under this final rule, fishermen in Federal waters off of the Florida Keys will fish under the Gulf migratory group commercial quota for the entire fishing year. Currently, vessels fishing in Federal waters off of the Florida Keys fish under the commercial quota for Gulf migratory group king mackerel during November 1 through March 31 and under the commercial quota for the Atlantic migratory group during April 1 through March 31. The proposed change in the regulatory boundary line for the Gulf and Atlantic migratory groups of king mackerel will not change the trip limit for this area, but vessels will no longer have the opportunity to continue fishing for king mackerel in Federal waters off the Florida Keys once the Gulf migratory group king mackerel quota for hook-and-line vessels in the Gulf southern zone has been reached.

The boundary change may result in adverse impacts on hook-and-line vessels in Federal waters off the Florida Keys. However, those adverse impacts should be mitigated by the action to divide and allocate the commercial ACL from the Florida east coast subzone to the remaining Gulf commercial zone components, including increasing the Gulf southern zone hook-and-line vessels allocation from approximately 16 percent of the Gulf migratory group commercial ACL to 21 percent. NMFS concludes that any adverse impacts on Florida Keys fishermen will likely not be significant, although the effects will vary across all affected vessels.

Comment 3: The proposed action to establish a year-round boundary at the Miami-Dade/Monroe county line for the Gulf and Atlantic migratory groups of king mackerel does not include discussion of how climate change may impact this mixing zone. As the habitat conditions change, the boundary may not be as effective as envisioned. The location of this boundary should be re-evaluated every 3 years to see if changes in the ecosystem warrant modification.

Response: During the 2014 stock assessment (SEDAR 38), the impact of climate change on the distribution of king mackerel was considered as part of the determination of the mixing zone boundaries. New assessments are conducted for a stock approximately every 5 years, and any new information about the extent of the mixing zone will be evaluated at that time.

Comment 4: It is confusing to set catch limits in pounds of fish in one area and in numbers of fish in another area.

Response: The catch limits for the Gulf and Atlantic migratory group king mackerel fisheries are established by the respective Councils and their SSCs. Each Council determines how it wants to express catch limits, whether in pounds or by numbers of fish, after receiving input from fishermen. Most commercial trip limits are expressed in pounds of fish, but the South Atlantic Council's Cobia Mackerel Advisory Panel recommended that the trip limit for the Atlantic southern zone be described in numbers of fish. The Councils preferred to have this trip limit set in numbers of fish, rather than pounds of fish, because they believed that it would help with compliance and enforcement. Numbers of fish will be converted to landings in pounds of fish by multiplying by the average weight of the fish to track landings against the Atlantic southern zone commercial ACL, which is expressed in pounds of fish. In determining this conversion factor, NMFS uses data from commercial trip intercepts where the length and weight of the fish harvested on a trip are recorded. As described in Amendment 26, the most recent available data indicated that average king mackerel weight was 8.48 lb (3.85 kg), round weight.

Comment 5: The Atlantic migratory group commercial trip limit south of the Flagler/Volusia, FL, county line from March 1 through March 31, should be 75 fish rather than 50 fish as proposed in the Amendment 26. The commercial trip limit should remain at 75 fish for the months of March through September, because there is no scientific justification to reduce this to 50 fish.

Response: In Amendment 26, the Councils considered a range of alternative commercial trip limits, including an alternative which would have established a trip limit of 75 fish year-round for this area. However, the Councils selected a preferred alternative which will implement a 50-fish trip limit in the Atlantic southern zone from March 1 through March 31, and then increase the trip limit to 75 fish from April 1 through the the end of September. This alternative also includes a preferred option, which will impose the reduced trip limit of 50 fish from April through September if 75 percent of the applicable commercial quota is met at any time during the March through September fishing season. The Councils selected the 50-fish commercial trip limit during March due to their concern that a large proportion of the commercial quota during the March through September fishing season could be landed in the first month (March), resulting in an earlier closure for that season. The 50-fish commercial trip limit is intended to constrain harvest during March, when the fishery may be particularly productive, to help ensure that commercial quota is available for a longer period during the March through September fishing season. In Amendment 26, the Councils explained that these commercial trip limits, in conjuction with the other recommended management measures, are intended to provide the longest continued access to king mackerel by commercial fishermen within the split season structure. Amendment 26 is based on the best available scientific information.

Comment 6: Allowing federally permitted shark fishermen a bycatch limit of 2 or 3 king mackerel that may be sold will provide shark fishermen an unfair economic advantage over other persons, especially fishermen that target snapper-grouper, wahoo, and Spanish mackerel.

Response: The bycatch allowance being implemented for shark fishermen applies to Atlantic migratory group king mackerel incidentally caught by fishermen engaged in directed shark fishing with gillnets. The bycatch allowance may be retained and sold only if the fishermen have both valid Federal shark and king mackerel permits. Except in the area north of Cape Lookout Light, NC, gillnets are not an allowable gear for harvesting Atlantic migratory group king mackerel. The bycatch allowance will allow shark fishermen to generate revenues from their incidental take of king mackerel that would otherwise be discarded. Fishermen engaged in directed fishing for snapper-grouper, wahoo, or Spanish mackerel generally use gear types other than gillnets, so their directed or incidental catches of king mackerel (subject to applicable quota and trip limit) may be sold so long as they possess a valid Federal king mackerel permit.

Classification

The Regional Administrator, Southeast Region, NMFS, has determined that this final rule is consistent with Amendment 26, the Magnuson-Stevens Act, and other applicable law.

This final rule has been determined to be not significant for purposes of Executive Order 12866.

In compliance with section 604 of the RFA, NMFS prepared a final regulatory flexibility analysis (FRFA) for this final rule. The FRFA incorporates the Initial Regulatory Flexibility Analysis (IRFA), a summary of the significant economic issues raised by public comments, NMFS's responses to those comments, and a summary of the analyses completed to support the action. The FRFA follows.

The preamble to the final rule provides the statement of the need for and objectives of this final rule. The Magnuson-Stevens Act provides the statutory basis for this final rule.

No duplicative, overlapping, or conflicting Federal rules have been identified. In addition, no new reporting or record-keeping requirements are introduced by this final rule.

No comments specific to the IRFA were received from the public or from the Chief Counsel for the Advocacy of the Small Business Administration; therefore, no public comments are addressed in this FRFA. However, there are comments that have economic implications, and they are addressed in the Comments and Responses section.

No changes to the proposed rule were made in response to public comments. NMFS agrees that the Councils' choice of preferred alternatives will best achieve the Councils' objectives for Amendment 26 while minimizing, to the extent practicable, the adverse effects on fishermen, support industries, and associated communities.

NMFS expects this final rule to directly affect federally permitted commercial fishermen fishing for king mackerel in the Gulf and Atlantic. Recreational anglers fishing for king mackerel will also be directly affected by this final rule, but they are not considered business entities under the RFA, so they are outside the scope of this analysis. Charterboat and headboat operations are business entities but they are only indirectly affected by this final rule. For RFA purposes only, NMFS has established a small business size standard for businesses, including their affiliates, whose primary industry is commercial fishing (see 50 CFR 200.2). A business primarily engaged in commercial fishing (NAICS code 11411) is classified as a small business if it is independently owned and operated, is not dominant in its field of operation (including affiliates), and has combined annual receipts not in excess of $11 million for all its affiliated operations worldwide.

From the 2000-2001 through 2013-2014 fishing years (the most recent available trip level data at the time that the Councils took final action on Amendment 26), an average of 274 vessels landed Gulf migratory group king mackerel. These vessels generated dockside revenues (2014 dollars) of $3,987,671 from king mackerel, $1,935,219 from other species jointly landed with king mackerel, and $12,395,741 from all other species in trips where king mackerel was not caught. The average annual revenue per vessel from all species landed by these vessels, including king mackerel, was $66,952. During the same time period, an average of 736 vessels landed Atlantic migratory group king mackerel. These vessels generated dockside revenues (2014 dollars) of $5,842,731 from king mackerel, $1,888,830 from other species jointly landed with king mackerel, and $12,670,841 from all other species in trips where king mackerel was not caught. The average revenue per vessel from all species landed by these vessels, including king mackerel, was $27,817. Vessels that caught and landed king mackerel may also operate in other fisheries, such as the shellfish fisheries, the revenues of which are not known and are not reflected in these totals. Based on revenue information, all commercial vessels affected by the final rule may be assumed to be small entities.

Because all entities expected to be directly affected by this final rule are assumed to be small entities, NMFS has determined that this final rule will affect a substantial number of small entities. The issue of disproportionate effects on small versus large entities does not arise in the present case because all directly affected entities are small entities.

The actions in Amendment 26 and this final rule and their effects on small entities are summarized below.

Action 1 in Amendment 26 will establish a single year-round boundary for separating the Gulf and Atlantic migratory groups of king mackerel extending east from the Miami-Dade/Monroe county line, with the Gulf Council being responsible for management measures for the mixing zone, defined as the area of the EEZ off of the Florida Keys. This will replace the current mixing zone boundary that varies seasonally, and thus will simplify management, minimize confusion among the public, and likely improve law enforcement, because the new boundary designation will also coincide with the boundary designation currently in place for the Gulf and Atlantic migratory groups of Spanish mackerel. This change will provide a more favorable environment for commercial vessels to increase revenues and profits. However, the extent of any revenue increases cannot be estimated at this time. The current Florida east coast subzone will no longer exist under this final rule.

Action 2-1 in Amendment 26 will revise the ABC levels for Atlantic migratory group king mackerel for fishing years 2016-2017 through 2019-2020, based on the ABC levels recommended by the SSC under a high recruitment scenario. This will substantially increase the Atlantic migratory group ABC, thus enabling the Council to increase the ACL, and providing a favorable environment for increases in potential harvest of Atlantic migratory group king mackerel that could result in higher revenues and profits to participating commercial vessels.

Action 2-2 in Amendment 26 will revise Atlantic migratory group king mackerel ACLs, commercial quotas, and recreational ACT, based on the ABC levels selected in Action 2-1. Action 2-2 will set the ACL equal to OY and equal to ABC. Given the increase in ABC, equating ACL and OY to ABC will directly result in increasing the allowable commercial harvest of Atlantic migratory group king mackerel, as well as the associated potential revenues. Relative to the current commercial ACL, the increased commercial ACL will provide the opportunity for total revenues to increase by an estimated $4.7 million for the 2016-2017 fishing year, $3.6 million for the 2017-2018 fishing year, $2.4 million for the 2018-2019 fishing year, and $1.5 million for the 2019-2020 fishing year and subsequent fishing years. Action 2-2 will also revise the Atlantic migratory group northern and southern zone commercial quotas, based on the ACL selected by the Councils. Whether the full revenue potential for each zone will be realized largely depends on whether the full quotas will be harvested. Using the highest past landings (2009-2010 landings) as the expected future landings, neither zone will be expected to fully take its respective commercial quota. The revised northern and southern zone commercial quotas may allow for the possibility for further revenue increases in the future through increased harvest; however, this statement does not account for the effects from Action 4, which will split the commercial season into two fishing seasons each year in the Atlantic southern zone.

Action 3 in Amendment 26 will allow for the limited retention and sale of Atlantic migratory group king mackerel caught with gillnet as incidental catch in the gillnet portion of the directed commercial shark fishery, for any vessel with both a valid Federal shark directed commercial permit and valid Federal king mackerel commercial permit. Any incidentally caught king mackerel may only be sold to a dealer with the Gulf and South Atlantic Federal dealer permit. For this type of incidental catch, no more than 2 king mackerel per crew member per trip in the southern zone may be retained and sold, and no more than 3 king mackerel per crew member per trip in the northern zone (except trips north of Cape Lookout Light, NC, that use an authorized gillnet for Atlantic migratory group king mackerel) may be retained and sold. This change will allow affected vessels to generate some revenue from incidentally caught king mackerel instead of discarding them. Only 3 to 5 shark gillnet vessels and 21 to 33 total vessel trips have reported incidental catches of Atlantic migratory group king mackerel, so any potential adverse impact on vessels that target king mackerel when incidental catches are counted against the Atlantic migratory group commercial ACL will be negligible.

Action 4 in Amendment 26 will allocate the commercial quota for Atlantic migratory group king mackerel's southern zone into two split seasons: 60 percent of the commercial quota will be allocated to the first season of March 1 through September 30, and 40 percent will be allocated to the second season of October 1 through the end of February. Any remaining unused quota from the first season will transfer to second season. Any remaining quota from the second season will not be carried forward to the next fishing year. When the commercial quota for either season is met or expected to be met, commercial harvest of king mackerel in the Atlantic southern zone will be prohibited for the remainder of the respective season. In general, the revenue effects of splitting the fishing year into seasons as compared to not splitting the fishing year into seasons are unclear. For example, if all of the commercial quota were harvested early in the fishing season when maintaining only one season, the split-season alternative will comparatively be expected to allow commercial vessels to fish over a longer period of time, because even if the first season quota was reached, 40 percent of the commercial quota will be available for harvest during the second season. Harvest will occur over a longer period of time (i.e., during both the first and second seasons), resulting in a more stable supply of fish. Because a more stable supply is generally associated with higher dockside prices, overall revenues will likely be higher. Conversely, because only 60 percent of the commercial quota is allocated to the first season, the implementation of split seasons may restrict harvest and revenues in the first season that may not be fully recouped in the second season. This could happen if revenues from the relatively higher pricing conditions in the first season, which coincides with the Lenten season, were restricted due to an early season closure. Landings may be higher in the second season, but, if prices were low, the higher landings in the second season may not result in revenue levels that will fully recoup the forgone revenues in the first season. However, given current available information on landings, and the commercial quota increase, no quota closures will be expected for either the first or second season, even if harvest levels reach the highest past recorded landings (2009-2010 landings). Thus, this action will not be expected to adversely affect the revenues and profits of commercial vessels.

Action 5 in Amendment 26 will establish a commercial trip limit system for the Atlantic southern zone. For both the first and second commercial seasons, the commercial trip limit north of the Flagler/Volusia county line will remain 3,500 lb (1,587 kg). South of the Flagler/Volusia county line, the trip limit for the first season will be 50 fish for the month of March, and 75 fish for the remainder of the first season, but if 75 percent of the commercial quota for first season has been be landed, the trip limit will be 50 fish. For the second season, the commercial trip limit will be 50 fish, and, if less than 70 percent of the season's quota has been landed, the trip limit will be 75 fish during the month of February. Because the 3,500 lb (1,587 kg) trip limit north of the Flagler/Volusia county line is the same as the current trip limit, vessels fishing in this area will be unaffected by this action. Given that no commercial quota closures will be expected for the first or second season, as discussed in Action 4, the imposition of a commercial trip limit south of the Flagler/Volusia county line will tend to reduce both per trip revenues and profits of commercial vessels. However, the magnitude of annual revenue reductions will be relatively small, as vessels may be able to take more trips due to a longer season under the commercial quota increases.

Action 6 will set the Gulf migratory group king mackerel ACL equal to the ABC recommended by the Gulf Council's SSC for the 2016-2017 through 2019-2020 fishing years. The ABC recommended by the SSC is less than the existing ABC, but the lower number is largely a product of the boundary change, based on new information in SEDAR 38 that the range of Gulf migratory group king mackerel spans a smaller area than previously thought. When the existing commercial ACLs for the Gulf migratory group are adjusted to account for landings in the Florida east coast subzone that will no longer be considered part of Gulf migratory group king mackerel, the new commercial ACLs starting in the 2016-2017 fishing year through this final rule will actually be greater than the existing ones. For this reason, setting the Gulf migratory group ACL equal to the ABC will be expected to provide higher landings and revenues to commercial vessels. Historically, the commercial sector has fully harvested its allocation of Gulf migratory group king mackerel. Thus, using past landings as a predictor of future landings, it is likely that the commercial sector will harvest up to the level of the quota increases for the Gulf migratory group and generate higher revenues from quota increases. Estimated total revenue increases will be approximately $1,068,000 for the 2016-2017 fishing year, $871,000 for the 2017-2018 fishing year, $781,000 for the 2018-2019 fishing year, and $692,000 for the 2019-2020 fishing year and every fishing year thereafter.

Action 7 in Amendment 26 will revise the commercial zone quotas for Gulf migratory group king mackerel as follows: 40 percent for the western zone; 18 percent for the northern zone; 21 percent for the southern zone hook-and-line component; and 21 percent for the southern zone gillnet component. This revised zone allocation is necessary because the previous Gulf migratory group king mackerel zone allocations included the Florida east coast subzone, which will no longer exist because of the boundary change under Action 1. The Florida east coast area will now be included in the southern zone for Atlantic migratory group king mackerel. Action 7 will result in commercial quota increases for all of the Gulf migratory group king mackerel zones, potentially resulting in higher revenues to commercial vessels. However, the quota increases will not be uniform across the zones, with the Gulf northern zone receiving the largest quota increases. For the Gulf western zone, total revenue increases will be approximately $194,000 for the 2016-2017 fishing year, $115,000 for the 2017-2018 fishing year, $79,000 for the 2018-2019 fishing year, and $44,000 for the 2019-2020 fishing year and subsequent fishing years. For the Gulf northern zone, revenue increases will be approximately $630,000 for the 2016-2017 fishing year, $595,000 for the 2017-2018 fishing year, $579,000 for the 2018-2019 fishing year, and $563,000 for the 2019-2020 fishing year and subsequent fishing years. For the hook-and-line component of the southern zone, revenue increases will be approximately $121,000 for the 2016-2017 fishing year, $80,000 for the 2017-2018 fishing year, $61,000 for the 2018-2019 fishing year, and $42,000 for the 2019-2020 fishing year and subsequent fishing years. Revenue increases for the gillnet component of the southern zone will be identical to those of the hook-and-line component. While vessels in all zones may be expected to generate higher overall revenues, the distribution of such revenue increases will not be uniform across all vessels. Because hook-and-line vessels in the Florida Keys will no longer have access to the Atlantic migratory group king mackerel in waters off the Florida Keys, revenue increases for these vessels may be limited. If the hook-and-line quota in the southern zone is reached and harvest is closed before the normal end of the fishing season on March 31, Florida Keys hook-and-line vessels will no longer be able to continue generating revenues from the harvest of Gulf or Atlantic migratory group king mackerel in waters off the Florida Keys. To continue fishing for king mackerel, vessels will have to move to areas that remain open to fishing for Gulf or Atlantic migratory group of king mackerel and such a move could create a potential increase in fishing costs.

Action 8 in Amendment 26 considered revising the commercial and recreational allocations for the Gulf migratory group king mackerel; however, the Councils selected the no action alternative and therefore, these allocations have not changed through this final rule.

Action 9 in Amendment 26 will modify the recreational bag limit for Gulf migratory group king mackerel from two to three fish per person per day. This will not directly affect any business entities under the RFA.

The following discussion describes the alternatives that were not selected as preferred by the Council. Among the actions considered, only actions that would have direct adverse economic effects on small entities merit inclusion.

Only Action 5 (commercial trip limits for the Atlantic migratory group's southern zone) may result in adverse economic impacts on small commercial business entities. Four alternatives and five sub-alternatives, including the two preferred alternatives and two preferred sub-alternatives, were considered for establishing commercial trip limits in the Atlantic southern zone. All of the considered alternatives would maintain the current trip limit for Atlantic migratory group king mackerel in areas north of the Volusia/Flagler county line. The first alternative, the no action alternative, would retain the current trip limit system. Because of the boundary change in Action 1, maintaining the current trip limit system would leave certain areas in the Florida east coast that used to be under the Gulf Council jurisdiction without trip limits during the winter months. This would open opportunities for higher harvests that could result in a shorter king mackerel season in the Atlantic southern zone. Vessels fishing in the area with no trip limits would benefit, but any benefit would be at the expense of vessels fishing in areas with trip limits, as allowing unrestricted harvest would likely lead to earlier quota closures. The overall net effects on vessel revenues cannot be determined, but if a commercial quota closure occurs due to increased, unrestricted harvest, overall annual vessel revenues may decrease.

The second alternative would establish a year-round trip limit of 75 fish for Atlantic migratory group king mackerel in the area south of the Flagler/Volusia county line. This alternative would provide for a greater trip limit than the preferred alternative for certain months of the year, and thus may be expected to result in slightly higher landings and revenues than the preferred alternative. However, this alternative may lead to shorter commercial seasons, as it does not include a mechanism to slow down harvests to avoid exceeding the area's quota for the first or second seasons in the Atlantic southern zone.

The third alternative, which would apply only to the first season, would establish a trip limit of 50 fish from March 1-March 31, and 75 fish for the remainder of the season 1, for the area south of the Flagler/Volusia county line. This alternative has two options, one of which is the preferred option. The non-preferred option would reduce the trip limit for the first season if 75 percent of the first season has been landed, but to occur no earlier than August 1 each fishing year. The preferred option would reduce the trip limit anytime during the first season when 75 percent of the first season's quota has been landed. The non-preferred option would in principle allow for a higher trip limit over a longer period in the first season and would be expected to result in higher per trip revenues and profits than the preferred option. However, analysis of the landings data shows that both options would have the same effects, because the 75 percent trigger is expected to be met at the same date under both options, which would occur after August 1.

The fourth alternative would establish a 50 fish trip limit for the second season. This alternative has three options, one of which is the preferred option. The preferred option would increase the trip limit to 75 fish during the month of February, but if 70 percent of the second season's commercial quota had been landed, the trip limit would remain 50 fish. The second option would increase the trip limit to 75 fish during January and February as long as less than 70 percent of the second season's quota had been landed. In principle, this second option would be expected to increase vessel revenues per trip in January as compared to the preferred option, but the second option would also increase the likelihood of an earlier closure in the second season. The third option is similar to the preferred option, except that the trigger for increasing the trip limit would be landings less than 80 percent, instead of less than 70 percent, of the second season's quota. In theory, this option has a greater likelihood than the preferred option for increasing the commercial trip limit in February, but it would also increase the likelihood of an early closure in the second season. However, because the greatest historical landings have been well below the proposed second season quota, all three options would be expected to have the same effects on vessel revenues.

Section 212 of the Small Business Regulatory Enforcement Fairness Act of 1996 states that, for each rule or group of related rules for which an agency is required to prepare a FRFA, the agency shall publish one or more guides to assist small entities in complying with the rule, and shall designate such publications as small entity compliance guides. As part of the rulemaking process, NMFS prepared a fishery bulletin, which also serves as a small entity compliance guide. The fishery bulletin will be sent to all interested parties.

List of Subjects in 50 CFR Part 622

Annual catch limits, Fisheries, Fishing, Gulf of Mexico, King mackerel, South Atlantic.

Dated: April 6, 2017.
Alan D. Risenhoover,
Acting Deputy Assistant Administrator for Regulatory Programs, National Marine Fisheries Service.

For the reasons set out in the preamble, 50 CFR part 622 is amended as follows:

PART 622—FISHERIES OF THE CARIBBEAN, GULF OF MEXICO, AND SOUTH ATLANTIC

1. The authority citation for part 622 continues to read as follows:

Authority: 16 U.S.C. 1801 et seq.

2. In § 622.7, revise paragraph (b)(1) to read as follows:

§ 622.7 Fishing years.

* * * * *

(b) * * *

(1) Gulf migratory group king mackerel—(i) Southern zone—July 1 through June 30.

(ii) Northern zone—October 1 through September 30.

(iii) Western zone—July 1 through June 30.

* * * * *

Subpart Q—Coastal Migratory Pelagic Resources (Gulf of Mexico, South Atlantic, and Mid-Atlantic)

3. Revise the heading of subpart Q to read as set forth above.

4. Revise § 622.369 to read as follows:

§ 622.369 Description of zones.

(a) Migratory groups of king mackerel. In the EEZ, king mackerel are divided into the Gulf migratory group and the Atlantic migratory group. The Gulf migratory group is bound by a line extending east of the U.S./Mexico border and a line extending east of the Miami-Dade/Monroe County, FL, boundary. The Atlantic migratory group is bound by a line extending east of the Miami-Dade/Monroe County, FL, boundary and a line from the intersection point of Connecticut, Rhode Island, and New York (as described in § 600.105(a) of this chapter). The zone boundaries remain in place year round. See Table 1 of this section for the boundary coordinates. See Figure 1 in Appendix G of this part for illustration.

(1) Gulf migratory group. The Gulf migratory group is divided into western, northern, and southern zones. See Table 1 of this section for the boundary coordinates. See Figure 1 in Appendix G of this part for illustration.

(i) Western zone. The western zone encompasses an area of the EEZ north of a line extending east of the US/Mexico border, and west of a line extending due south of the Alabama/Florida border, including the EEZ off Texas, Louisiana, Mississippi, and Alabama.

(ii) Northern zone. The northern zone encompasses an area of the EEZ east of a line extending due south of the Florida/Alabama border, and north of a line extending due west of the Lee/Collier County, FL, boundary.

(iii) Southern zone. The southern zone encompasses an area of the EEZ south of a line extending due west of the Lee/Collier County, FL, boundary on the FL west coast, and south of a line extending due east of the Monroe/Miami-Dade County, FL, boundary on the FL east coast, which includes the EEZ off Collier and Monroe Counties, FL.

(2) Atlantic migratory group. The Atlantic migratory group is divided into the northern and southern zones separated by a line extending from the North Carolina/South Carolina border, as specified in § 622.2. See Table 1 of this section for the boundary coordinates. See Figure 1 in Appendix G of this part for illustration. See § 622.385(a)(1) for a description of the areas for Atlantic migratory group king mackerel commercial trip limits.

(i) Northern zone. The northern zone encompasses an area of the EEZ south of a line extending from the intersection point of New York, Connecticut, and Rhode Island (as described in § 600.105(a) of this chapter), and north of a line extending from the North Carolina/South Carolina border, as specified in § 622.2, including the EEZ off each state from North Carolina to New York. This zone remains the same year round.

(ii) Southern zone. The southern zone encompasses an area of the EEZ south of a line extending from the North Carolina/South Carolina border, as specified in § 622.2, and north of a line extending due east of the Monroe/Miami-Dade County, FL, boundary.

Table 1 to § 622.369—King Mackerel Description of Zones
[For illustration, see Figure 1 in Appendix G of this part]
Area | Boundary 1 | Boundary 2
Gulf Migratory Group—Western Zone | U.S./Mexico, A line east of the intersection of 25°58′30.57″ N. lat. and 96°55′27.37″ W. long | AL/FL, 87°31′6″ W. long.
Gulf Migratory Group—Northern Zone | AL/FL, 87°31′6″ W. long | Lee/Collier, 26°19′48″ N. lat.
Gulf Migratory Group—Southern Zone | Lee/Collier, 26°19′48″ N. lat | Monroe/Miami-Dade, 25°20′24″ N. lat.
Atlantic Migratory Group—Northern Zone | NY/CT/RI, 41°18′16.249″ N. lat. and 71°54′28.477″ W. long. southeast to 37°22′32.75″ N. lat. and the intersection point with the outward boundary of the EEZ | NC/SC, a line extending in a direction of 135°34′55″ from true north beginning at 33°51′07.9″ N. lat. and 78°32′32.6″ W. long. to the intersection point with the outward boundary of the EEZ.
Atlantic Migratory Group—Southern Zone | NC/SC, a line extending in a direction of 135°34′55″ from true north beginning at 33°51′07.9″ N. lat. and 78°32′32.6″ W. long. to the intersection point with the outward boundary of the EEZ | Monroe/Miami-Dade, 25°20′24″ N. lat.

(b) Migratory groups of Spanish mackerel—(1) Gulf migratory group. In the EEZ, the Gulf migratory group is bounded by a line extending east of the U.S./Mexico border and a line extending due east of the Monroe/Miami-Dade County, FL, boundary. See Table 2 of this section for the boundary coordinates. See Figure 2 in Appendix G of this part for illustration.

(2) Atlantic migratory group. In the EEZ, the Atlantic migratory group is bounded by a line extending due east of the Monroe/Miami-Dade County, FL, boundary and a line extending from the intersection point of New York, Connecticut, and Rhode Island (as described in § 600.105(a) of this chapter). The Atlantic migratory group is divided into the northern and southern zones. See Table 2 of this section for the boundary coordinates. See Figure 2 in Appendix G of this part for illustration. See § 622.385(b)(1) for a description of the areas for Atlantic migratory group Spanish mackerel commercial trip limits.

(i) Northern zone. The northern zone encompasses an area of the EEZ south of a line extending from the intersection point of New York, Connecticut, and Rhode Island (as described in § 600.105(a) of this chapter), and north of a line extending from the North Carolina/South Carolina border, as specified in § 622.2, including the EEZ off each state from North Carolina to New York.

(ii) Southern zone. The southern zone encompasses an area of the EEZ south of a line extending from the North Carolina/South Carolina border, as specified in § 622.2, and north of a line extending due east of the Monroe/Miami-Dade County, FL, boundary, including the EEZ off South Carolina, Georgia, and Florida.

Table 2 to § 622.369—Spanish Mackerel Description of Zones
[For illustration, see Figure 2 in Appendix G of this part]
Area | Boundary 1 | Boundary 2
Gulf Migratory Group | US/Mexico, A line east of the intersection of 25°58′30.57″ N. lat. and 96°55′27.37″ W. long | Monroe/Miami-Dade, 25°20′24″ N. lat.
Atlantic Migratory Group—Northern Zone | NY/CT/RI, 41°18′16.249″ N. lat. and 71°54′28.477″ W. long. southeast to 37°22′32.75″ N. lat. and the intersection point with the outward boundary of the EEZ | NC/SC, a line extending in a direction of 135°34′55″ from true north beginning at 33°51′07.9″ N. lat. and 78°32′32.6″ W. long. to the intersection point with the outward boundary of the EEZ.
Atlantic Migratory Group—Southern Zone | NC/SC, a line extending in a direction of 135°34′55″ from true north beginning at 33°51′07.9″ N. lat. and 78°32′32.6″ W. long. to the intersection point with the outward boundary of the EEZ | Monroe/Miami-Dade, 25°20′24″ N. lat.

(c) Migratory groups of cobia—(1) Gulf migratory group. In the EEZ, the Gulf migratory group is bounded by a line extending east from the United States/Mexico border and a line extending due east from the Florida/Georgia border. See Table 3 of this section for the boundary coordinates. (See Figure 3 in Appendix G of this part for illustration.)

(i) Gulf zone. The Gulf zone encompasses an area of the EEZ north of a line extending east of the United States/Mexico border, and north and west of the line of demarcation between the Atlantic Ocean and the Gulf of Mexico (the Council boundary, as described in § 600.105(c) of this chapter).

(ii) Florida east coast zone. The Florida east coast zone encompasses an area of the EEZ south and east of the line of demarcation between the Atlantic Ocean and the Gulf of Mexico (as described in § 600.105(c) of this chapter), and south of a line extending due east from the Florida/Georgia border.

(2) Atlantic migratory group. In the EEZ, the Atlantic migratory group is bounded by a line extending from the intersection point of New York, Connecticut, and Rhode Island (as described in § 600.105(a) of this chapter) and a line extending due east of the Florida/Georgia border. See Table 3 of this section for the boundary coordinates. (See Figure 3 in Appendix G of this part for illustration.)

Table 3 to § 622.369—Cobia Description of Zones
[For illustration, see Figure 3 in Appendix G of this part]
Area | Boundary 1 | Boundary 2
Gulf Migratory Group—Gulf Zone | US/Mexico, A line east of the intersection of 25°58′30.57″ N. lat. and 96°55′27.37″ W. long | Council Boundary—the intersection of the outer boundary of the EEZ and 83°00′ W. long., north to 24°35′ N. lat., (near the Dry Tortugas Islands), then east to the mainland.
Gulf Migratory Group—Florida East Coast Zone | Council Boundary—the intersection of the outer boundary of the EEZ and 83°00′ W. long., north to 24°35′ N. lat., (near the Dry Tortugas Islands), then east to the mainland | FL/GA, 30°42′45.6″ N. lat.
Atlantic Migratory Group | NY/CT/RI, 41°18′16.249″ N. lat. and 71°54′28.477″ W. long. southeast to 37°22′32.75″ N. lat. and the intersection point with the outward boundary of the EEZ | FL/GA, 30°42′45.6″ N. lat.

5. In § 622.370, revise paragraphs (a)(2), (b)(1) introductory text, and (c)(1) to read as follows:

§ 622.370 Permits.

* * * * *

(a) * * *

(2) Gillnets for king mackerel in the Gulf southern zone. For a person aboard a vessel to use a run-around gillnet for king mackerel in the southern zone (see § 622.369(a)(1)(iii)), a commercial vessel permit for king mackerel and a king mackerel gillnet permit must have been issued to the vessel and must be on board. See § 622.372 regarding a limited access system applicable to king mackerel gillnet permits in the southern zone and restrictions on transferability of king mackerel gillnet permits.

* * * * *

(b) * * *

(1) For a person aboard a vessel that is operating as a charter vessel or headboat to fish for or possess, in or from the EEZ, Gulf coastal migratory pelagic fish or Atlantic coastal migratory pelagic fish, a valid charter vessel/headboat permit for Gulf coastal migratory pelagic fish or Atlantic coastal migratory pelagic fish, respectively, must have been issued to the vessel and must be on board.

* * * * *

(c) * * *

(1) Permits. For a dealer to first receive Gulf or Atlantic coastal migratory pelagic fish harvested in or from the EEZ, a Gulf and South Atlantic dealer permit must be issued to the dealer.

* * * * *

6. In § 622.372, revise the section heading to read as follows:

§ 622.372 Limited access system for king mackerel gillnet permits applicable in the Gulf southern zone.

* * * * *

7. In § 622.374, revise paragraphs (b)(1)(i) and (ii) and (c)(1) to read as follows:

§ 622.374 Recordkeeping and reporting.

* * * * *

(b) * * *

(1) * * *

(i) Charter vessels. The owner or operator of a charter vessel for which a charter vessel/headboat permit for Gulf or Atlantic coastal migratory pelagic fish has been issued, as required under § 622.370(b)(1), or whose vessel fishes for or lands Gulf or Atlantic coastal migratory fish in or from state waters adjoining the Gulf, South Atlantic, or Mid-Atlantic EEZ, who is selected to report by the SRD must maintain a fishing record for each trip, or a portion of such trips as specified by the SRD, on forms provided by the SRD and must submit such record as specified in paragraph (b)(2)(i) of this section.

(ii) Headboats. The owner or operator of a headboat for which a charter vessel/headboat permit for Gulf coastal migratory fish or Atlantic coastal migratory pelagic fish has been issued, as required under § 622.370(b)(1), or whose vessel fishes for or lands Gulf or Atlantic coastal migratory pelagic fish in or from state waters adjoining the Gulf, South Atlantic, or Mid-Atlantic EEZ, who is selected to report by the SRD must submit an electronic fishing record for each trip of all fish harvested within the time period specified in paragraph (b)(2)(ii) of this section, via the Southeast Region Headboat Survey.

* * * * *

(c) * * *

(1) A dealer who first receives Gulf or Atlantic coastal migratory pelagic fish must maintain records and submit information as specified in § 622.5(c).

* * * * *

8. In § 622.375, revise paragraphs (a)(1)(ii) and (b)(4) to read as follows:

§ 622.375 Authorized and unauthorized gear.

(a) * * *

(1) * * *

(ii) King mackerel, Gulf migratory group—hook-and-line gear and, in the southern zone only, run-around gillnet. (See § 622.369(a)(1)(iii) for a description of the southern zone.)

* * * * *

(b) * * *

(4) Exception for king mackerel in the Gulf EEZ. The provisions of this paragraph (b)(4) apply to king mackerel taken in the Gulf EEZ and to such king mackerel possessed in the Gulf. Paragraph (b)(3) of this section notwithstanding, a person aboard a vessel that has a valid commercial permit for king mackerel is not subject to the bag limit for king mackerel when the vessel has on board on a trip unauthorized gear other than a drift gillnet in the Gulf EEZ, a long gillnet, or a run-around gillnet in an area other than the southern zone. Thus, the following applies to a vessel that has a commercial permit for king mackerel:

(i) Such vessel may not use unauthorized gear in a directed fishery for king mackerel in the Gulf EEZ.

(ii) If such a vessel has a drift gillnet or a long gillnet on board or a run-around gillnet in an area other than the southern zone, no king mackerel may be possessed.

(iii) If such a vessel has unauthorized gear on board other than a drift gillnet in the Gulf EEZ, a long gillnet, or a run-around gillnet in an area other than the southern zone, the possession of king mackerel taken incidentally is restricted only by the closure provisions of § 622.384(e) and the trip limits specified in § 622.385(a). See also § 622.379 regarding the purse seine catch allowances of king mackerel.

* * * * *

9. In § 622.378, revise the section heading and paragraph (a) to read as follows:

§ 622.378 Seasonal closures of the Gulf migratory group king mackerel gillnet fishery.

(a) Seasonal closures of the gillnet component for Gulf migratory group king mackerel. The gillnet component for Gulf migratory group king mackerel in or from the southern zone is closed each fishing year from July 1 until 6 a.m. on the day after the Martin Luther King Jr. Federal holiday. The gillnet component is open on the first weekend following the Martin Luther King Jr. holiday, provided a notification of closure has not been filed under § 622.8(b). The gillnet component is closed all subsequent weekends and observed Federal holidays. Weekend closures are effective from 6 a.m. Saturday to 6 a.m. Monday. Holiday closures are effective from 6 a.m. on the observed Federal holiday to 6 a.m. the following day. All times are eastern standard time. During these closures, a person aboard a vessel using or possessing a gillnet with a stretched-mesh size of 4.75 inches (12.1 cm) or larger in the southern zone may not fish for or possess Gulf migratory group king mackerel. (See § 622.369(a)(1)(iii) for a description of the southern zone.)

* * * * *

10. Revise § 622.379 to read as follows:

§ 622.379 Incidental catch allowances.

(a) Purse seine incidental catch allowance. A vessel in the EEZ, or having fished in the EEZ, with a purse seine on board will not be considered as fishing, or having fished, for king or Spanish mackerel in violation of a prohibition of purse seines under § 622.375(b), in violation of the possession limits under § 622.375(b)(3), or, in the case of king mackerel from the Atlantic migratory group, in violation of a closure effected in accordance with § 622.8(b), provided the king mackerel on board does not exceed 1 percent, or the Spanish mackerel on board does not exceed 10 percent, of all fish on board the vessel. Incidental catch will be calculated by number and/or weight of fish. Neither calculation may exceed the allowable percentage. Incidentally caught king or Spanish mackerel are counted toward the quotas provided for under § 622.384 and are subject to the prohibition of sale under § 622.384(e)(3).

(b) Shark gillnet incidental catch allowance. A vessel in the Atlantic EEZ with a valid Federal Atlantic commercial shark directed permit and a valid Federal king mackerel commercial permit that is engaged in directed shark fishing with gillnets that are not an authorized gear for Atlantic migratory group king mackerel (See § 622.375(a)(1)(i)), may retain and sell a limited number of king mackerel. Any king mackerel retained must be sold to a dealer with a valid Federal Gulf and South Atlantic dealer permit.

(1) Northern zone. No more than three king mackerel per crew member may be retained or sold per trip (See § 622.385(a)(1)(i) for the commercial trip limit for directed king mackerel trips using authorized gillnets (in the Atlantic EEZ north of 34°37.3′ N. lat., the latitude of Cape Lookout, NC)).

(2) Southern zone. No more than two king mackerel per crew member may be retained or sold per trip.

11. In § 622.382, revise paragraph (a)(1)(ii) to read as follows:

§ 622.382 Bag and possession limits.

* * * * *

(a) * * *

(1) * * *

(ii) Gulf migratory group king mackerel—3.

* * * * *

12. In § 622.384, revise paragraphs (b) and (e) to read as follows:

§ 622.384 Quotas.

* * * * *

(b) King mackerel—(1) Gulf migratory group. The Gulf migratory group is divided into zones. The description of the zones is specified in § 622.369(a). Quotas for the western, northern, and southern zones are as follows:

(i) Western zone. The quota is 1,180,000 lb (535,239 kg) for the 2016-2017 fishing year, 1,136,000 lb (515,281 kg) for the 2017-2018 fishing year, 1,116,000 lb (506,209 kg) for the 2018-2019 fishing year, and 1,096,000 lb (497,137 kg) for the 2019-2020 fishing year and subsequent fishing years.

(ii) Northern zone. The quota is 531,000 lb (240,858 kg) for the 2016-2017 fishing year, 511,200 lb (231,876 kg) for the 2017-2018 fishing year, 502,200 lb (227,794 kg) for the 2018-2019 fishing year, and 493,200 lb (223,712 kg) for the 2019-2020 fishing year and subsequent fishing years.

(iii) Southern zone. (A) The hook-and-line quota is 619,500 lb (281,000 kg) for the 2016-2017 fishing year, 596,400 lb (270,522 kg) for the 2017-2018 fishing year, 585,900 lb (265,760 kg) for the 2018-2019 fishing year, and 575,400 lb (260,997 kg) for the 2019-2020 fishing year and subsequent fishing years.

(B) The run-around gillnet quota is 619,500 lb (281,000 kg) for the 2016-2017 fishing year, 596,400 lb (270,522 kg) for the 2017-2018 fishing year, 585,900 lb (265,760 kg) for the 2018-2019 fishing year, and 575,400 lb (260,997 kg) for the 2019-2020 fishing year and subsequent fishing years.

(2) Atlantic migratory group. The Atlantic migratory group is divided into northern and southern zones. The descriptions of the zones are specified in § 622.369(a). Quotas for the northern and southern zones for the 2016-2017 fishing year and subsequent years are as follows:

(i) Northern zone. The quota is 1,497,600 lb (679,300 kg) for the 2016-2017 fishing year, 1,359,360 lb (616,595 kg) for the 2017-2018 fishing year, 1,198,080 lb (543,440 kg) for the 2018-2019 fishing year and 1,082,880 lb (491,186 kg) for the 2019-2020 fishing year and subsequent fishing years. No more than 0.40 million lb (0.18 million kg) may be harvested by purse seine gear.

(ii) Southern zone. The annual quota is 5,002,400 lb (2,269,050 kg) for the 2016-2017 fishing year, 4,540,640 lb (2,059,600 kg) for the 2017-2018 fishing year, 4,001,920 lb (1,815,240 kg) for the 2018-2019 fishing year and 3,617,120 lb (1,640,698 kg) for the 2019-2020 fishing year and subsequent fishing years.

(A) For the period March 1 through September 30, each year, the seasonal quota is 3,001,440 lb (1,361,430 kg) for the 2016-2017 fishing year, 2,724,384 lb (1,235,760 kg) for the 2017-2018 fishing year, 2,401,152 lb (1,089,144 kg) for the 2018-2019 fishing year and 2,170,272 lb (984,419 kg) for the 2019-2020 fishing year and subsequent fishing years.

(B) For the period October 1 through the end of February each year, the seasonal quota is 2,000,960 lb (907,620 kg) for the 2016-2017 fishing year, 1,816,256 lb (823,840 kg) for the 2017-2018 fishing year, 1,600,768 lb (726,096 kg) for the 2018-2019 fishing year and 1,446,848 lb (656,279 kg) for the 2019-2020 fishing year and subsequent fishing years.

(C) Any unused portion of the quota specified in paragraph (b)(2)(ii)(A) of this section will be added to the quota specified in paragraph (b)(2)(ii)(B) of this section. Any unused portion of the quota specified in paragraph (b)(2)(ii)(B) of this section, including any addition of quota specified in paragraph (b)(2)(ii)(A) of this section that was unused, will become void at the end of the fishing year and will not be added to any subsequent quota.

(iii) Quota transfers. North Carolina or Florida, in consultation with the other states in their respective zones, may request approval from the RA to transfer part or all of their respective zone's annual commercial quota to the other zone. Requests for transfer of commercial quota for king mackerel must be made by a letter signed by the principal state official with marine fishery management responsibility and expertise of the state requesting the transfer, or his/her previously named designee. The letter must certify that all pertinent state requirements have been met and identify the states involved and the amount of quota to be transferred. For the purposes of quota closures as described in § 622.8, the receiving zone's quota will be the original quota plus any transferred amount, for that fishing season only. Landings associated with any transferred quota will be included in the total landings for the Atlantic migratory group, which will be evaluated relative to the total ACL.

(A) Within 10 working days following the receipt of the letter from the state requesting the transfer, the RA shall notify the appropriate state officials of the disposition of the request. In evaluating requests to transfer a quota, the RA shall consider whether:

(1) The transfer would allow the overall annual quota to be fully harvested; and

(2) The transfer is consistent with the objectives of the FMP and the Magnuson-Stevens Act.

(B) The transfer of quota will be valid only for the fishing year for which the request was made and does not permanently alter the quotas specified in paragraphs (b)(2)(i) and (ii) of this section.

(3) Transit provisions applicable in areas closed due to a quota closure for king mackerel. A vessel with a valid commercial vessel permit for king mackerel that has onboard king mackerel harvested in an open area of the EEZ may transit through areas closed to the harvest of king mackerel due to a quota closure, if fishing gear is appropriately stowed. For the purpose of paragraph (b) of this section, transit means direct and non-stop continuous course through the area. To be appropriately stowed fishing gear means—

(i) A gillnet must be left on the drum. Any additional gillnets not attached to the drum must be stowed below deck.

(ii) A rod and reel must be removed from the rod holder and stowed securely on or below deck. Terminal gear (i.e., hook, leader, sinker, flasher, or bait) must be disconnected and stowed separately from the rod and reel. Sinkers must be disconnected from the down rigger and stowed separately.

* * * * *

(e) Restrictions applicable after a quota closure. (1) A person aboard a vessel for which a commercial permit for king or Spanish mackerel has been issued, as required under § 622.370(a)(1) or (3), may not fish for king or Spanish mackerel in the EEZ or retain king or Spanish mackerel in or from the EEZ under a bag or possession limit specified in § 622.382(a) for the closed species, migratory group, zone, or gear, except as provided for under paragraph (e)(2) of this section.

(2) A person aboard a vessel for which valid charter vessel/headboat permits for Gulf coastal migratory pelagic fish or Atlantic coastal migratory pelagic fish and a valid commercial vessel permit for king or Spanish mackerel have been issued may continue to retain fish under a bag and possession limit specified in § 622.382(a), provided the vessel is operating as a charter vessel or headboat.

(3) The sale or purchase of king mackerel, Spanish mackerel, or cobia of the closed species, migratory group, zone, or gear type, is prohibited, including any king or Spanish mackerel taken under the bag limits, or cobia taken under the limited-harvest species possession limit specified in § 622.383(b). The prohibition on sale/purchase during a closure for coastal migratory pelagic fish does not apply to coastal migratory pelagic fish that were harvested, landed ashore, and sold prior to the effective date of the closure and were held in cold storage by a dealer or processor.

13. In § 622.385, revise paragraph (a) to read as follows:

§ 622.385 Commercial trip limits.

* * * * *

(a) King mackerel—(1) Atlantic migratory group. The following trip limits apply to vessels for which commercial permits for king mackerel have been issued, as required under § 622.370(a)(1):

(i) North of 29°25′ N. lat., which is a line directly east from the Flagler/Volusia County, FL, boundary, king mackerel in or from the EEZ may not be possessed on board or landed from a vessel in a day in amounts exceeding 3,500 lb (1,588 kg).

(ii) In the area between 29°25′ N. lat., which is a line directly east from the Flagler/Volusia County, FL, boundary, and 29°25′ N. lat., which is a line directly east from the Miami-Dade/Monroe County, FL, boundary king mackerel in or from the EEZ may not be possessed on board or landed from a vessel in a day in amounts not to exceed:

(A) From March 1 through March 31—50 fish.

(B) From April 1 through September 30—75 fish, unless NMFS determines that 75 percent or more of the quota specified in § 622.384(b)(2)(ii)(A) has been landed, then, 50 fish.

(C) From October 1 through January 31—50 fish.

(D) From February 1 through the end of February—50 fish, unless NMFS determines that less than 70 percent of the quota specified in § 622.384(b)(2)(ii)(B) has been landed, then, 75 fish.

(2) Gulf migratory group. Commercial trip limits are established in the southern, northern, and western zones as follows. (See § 622.369(a) for descriptions of the southern, northern, and western zones.)

(i) Southern zone—(A) Gillnet gear. (1) King mackerel in or from the EEZ may be possessed on board or landed from a vessel for which a commercial vessel permit for king mackerel and a king mackerel gillnet permit have been issued, as required under § 622.370(a)(2), in amounts not exceeding 45,000 lb (20,411 kg) per day.

(2) King mackerel in or from the EEZ may be possessed on board or landed from a vessel that uses or has on board a run-around gillnet on a trip only when such vessel has on board a commercial vessel permit for king mackerel and a king mackerel gillnet permit.

(3) King mackerel from the southern zone landed by a vessel for which a commercial vessel permit for king mackerel and a king mackerel gillnet permit have been issued will be counted against the run-around gillnet quota specified in § 622.384(b)(1)(iii)(B).

(4) King mackerel in or from the EEZ harvested with gear other than run-around gillnet may not be retained on board a vessel for which a commercial vessel permit for king mackerel and a king mackerel gillnet permit have been issued.

(B) Hook-and-line gear. King mackerel in or from the EEZ may be possessed on board or landed from a vessel with a commercial permit for king mackerel, as required by § 622.370(a)(1), and operating under the hook-and-line gear quotas in § 622.384(b)(1)(iii)(A) in amounts not exceeding 1,250 lb (567 kg) per day.

(ii) Northern zone. King mackerel in or from the EEZ may be possessed on board or landed from a vessel for which a commercial permit for king mackerel has been issued, as required under § 622.370(a)(1), in amounts not exceeding 1,250 lb (567 kg) per day.

(iii) Western zone. King mackerel in or from the EEZ may be possessed on board or landed from a vessel for which a commercial permit for king mackerel has been issued, as required under § 622.370(a)(1), in amounts not exceeding 3,000 lb (1,361 kg) per day.

* * * * *

14. In § 622.388, revise paragraphs (a), (b), (d)(2)(i), and (f)(2)(i) to read as follows:

§ 622.388 Annual catch limits (ACLs), annual catch targets (ACTs), and accountability measures.

* * * * *

(a) Gulf migratory group king mackerel—(1) Commercial sector. (i) If commercial landings, as estimated by the SRD, reach or are projected to reach the applicable quota specified in § 622.384(b)(1), the AA will file a notification with the Office of the Federal Register to close the commercial sector for that zone, or gear type for the remainder of the fishing year.

(ii) The commercial ACL for the Gulf migratory group of king mackerel is 2.95 million lb (1.34 million kg) for the 2016-2017 fishing year, 2.84 million lb (1.29 million kg) for the 2017-2018 fishing year, 2.79 million lb (1.27 million kg) for the 2018-2019 fishing year, and 2.74 million lb (1.24 million kg) for the 2019-2020 and subsequent fishing years. This ACL is further divided into a commercial ACL for vessels fishing with hook-and-line and a commercial ACL for vessels fishing with run-around gillnets. The hook-and-line ACL (which applies to the entire Gulf) is 2,330,500 lb (1,057,097 kg) for 2016-2017 fishing year, 2,243,600 lb (1,017,680 kg) for the 2017-2018 fishing year, 2,204,100 lb (999,763 kg) for the 2018-2019 fishing year, and 2,164,600 lb (981,846 kg) for the 2019-2020 and subsequent fishing years. The run-around gillnet ACL (which applies to the southern zone) is 619,500 lb (281,000 kg) for the 2016-2017 fishing year, 596,400 lb (270,522 kg) for the 2017-2018 fishing year, 585,900 lb (265,760 kg) for the 2018-2019 fishing year, and 575,400 lb (260,997 kg) for 2019-2020 and subsequent fishing years.

(iii) If commercial landings of Gulf migratory group king mackerel caught by run-around gillnet in the southern zone, as estimated by the SRD, exceed the commercial ACL, the AA will file a notification with the Office of the Federal Register to reduce the commercial ACL for king mackerel harvested by run-around gillnet in the southern zone in the following fishing year by the amount of the commercial ACL overage in the prior fishing year.

(2) Recreational sector. If recreational landings, as estimated by the SRD, reach or are projected to reach the recreational ACL of 6.26 million lb (2.84 million kg) for the 2016-2017 fishing year, 6.04 million lb (2.74 million kg) for the 2017-2018 fishing year, 5.92 million lb (2.69 million kg) for the 2018-2019 fishing year, and 5.81 million lb (2.64 million kg) for the 2019-2020 and subsequent fishing years, the AA will file a notification with the Office of the Federal Register to implement bag and possession limits for Gulf migratory group king mackerel of zero, unless the best scientific information available determines that a bag limit reduction is unnecessary.

(3) For purposes of tracking the ACL, recreational landings will be monitored based on the commercial fishing year.

(b) Atlantic migratory group king mackerel—(1) Commercial sector. (i) If commercial landings, as estimated by the SRD, reach or are projected to reach the applicable quota for the zone or season specified in § 622.384(b)(2), the AA will file a notification with the Office of the Federal Register to close the commercial sector for that zone for the remainder of the applicable fishing season or fishing year.

(ii) In addition to the measures specified in paragraph (b)(1)(i) of this section, if the sum of the commercial and recreational landings, as estimated by the SRD, exceeds the stock ACL, as specified in paragraph (b)(3) of this section, and Atlantic migratory group king mackerel are overfished, based on the most recent status of U.S. Fisheries Report to Congress, the AA will file a notification with the Office of the Federal Register, at or near the beginning of the following fishing year to reduce the commercial quota for that zone for that following year by the amount of any commercial sector overage in the prior fishing year for that zone.

(iii) The commercial ACL for the Atlantic migratory group of king mackerel is 6.5 million lb (2.9 million kg) for the 2016-2017 fishing year, 5.9 million lb (2.7 million kg) for the 2017-2018 fishing year, 5.2 million lb (2.4 million kg) for the 2018-2019 fishing year, and 4.7 million lb (2.1 million kg) for the 2019-2020 fishing year and subsequent fishing years.

(2) Recreational sector. (i) If the recreational landings exceed the recreational ACL as specified in this paragraph and the sum of the commercial and recreational landings, as estimated by the SRD, exceeds the stock ACL, as specified in paragraph (b)(3) of this section, the AA will file a notification with the Office of the Federal Register, at or near the beginning of the following fishing year to reduce the bag limit by the amount necessary to ensure recreational landings may achieve the recreational ACT, but do not exceed the recreational ACL, in the following fishing year. The recreational ACT is 10.1 million lb (4.6 million kg) for the 2016-2017 fishing year, 9.2 million lb (4.2 million kg) for the 2017-2018 fishing year, 8.3 million lb (3.8 million kg) for the 2018-2019 fishing year, and 7.4 million lb (3.4 million kg) for the 2019-2020 fishing year and subsequent fishing years. The recreational ACL is 10.9 million lb (4.9 million kg) for the 2016-2017 fishing year, 9.9 million lb (4.5 million kg) for the 2017-2018 fishing year, 8.9 million lb (4.0 million kg) for the 2018-2019 fishing year, and 8.0 million lb (3.6 million kg) for the 2019-2020 fishing year and subsequent fishing years.

(ii) In addition to the measures specified in paragraph (b)(2)(i) of this section, if the sum of the commercial and recreational landings, as estimated by the SRD, exceeds the stock ACL, as specified in paragraph (b)(3) of this section, and Atlantic migratory group king mackerel are overfished, based on the most recent status of U.S. Fisheries Report to Congress, the AA will file a notification with the Office of the Federal Register, at or near the beginning of the following fishing year to reduce the recreational ACL and ACT for that following year by the amount of any recreational sector overage in the prior fishing year.

(iii) For purposes of tracking the ACL, recreational landings will be evaluated based on the commercial fishing year, March through February. Recreational landings will be evaluated relative to the ACL based on a moving multi-year average of landings, as described in the FMP.

(3) The stock ACL for Atlantic migratory group king mackerel is 17.4 million lb (7.9 million kg) for the 2016-2017 fishing year, 15.8 million lb (7.2 million kg) for the 2017-2018 fishing year, 14.1 million lb (6.4 million kg) for the 2018-2019 fishing year, and 12.7 million lb (5.8 million kg) for the 2019-2020 fishing year and subsequent fishing years.

* * * * *

(d) * * *

(2) * * *

(i) If the recreational landings exceed the recreational ACL as specified in this paragraph and the sum of the commercial and recreational landings, as estimated by the SRD, exceeds the stock ACL, as specified in paragraph (d)(3) of this section, the AA will file a notification with the Office of the Federal Register, at or near the beginning of the following fishing year to reduce the bag limit by the amount necessary to ensure recreational landings may achieve the recreational ACT, but do not exceed the recreational ACL, in the following fishing year. The recreational ACT for the Atlantic migratory group is 2.364 million lb (1.072 million kg). The recreational ACL for the Atlantic migratory group is 2.727 million lb (1.236 million kg).

* * * * *

(f) * * *

(2) * * *

(i) If landings of cobia that are not sold exceed the ACL specified in this paragraph and the sum of the cobia landings that are sold and not sold, as estimated by the SRD, exceeds the stock ACL, as specified in paragraph (f)(3) of this section, the AA will file a notification with the Office of the Federal Register, at or near the beginning of the following fishing year to reduce the length of the following fishing season by the amount necessary to ensure landings may achieve the applicable ACT, but do not exceed the applicable ACL in the following fishing year. The applicable ACTs for the Atlantic migratory group of cobia are 550,000 lb (249,476 kg) for 2014, 520,000 lb (235,868 kg) for 2015, and 500,000 lb (226,796 kg) for 2016 and subsequent fishing years. The applicable ACLs for the Atlantic migratory group of cobia are 670,000 lb (303,907 kg) for 2014, 630,000 lb (285,763 kg) for 2015, and 620,000 lb (281,227 kg) for 2016 and subsequent fishing years.

* * * * *

15. Revise Appendix G to Part 622 to read as follows:

Appendix G to Part 622—Coastal Migratory Pelagics Zone Illustration

BILLING CODE 3510-22-P

[FR Doc. 2017-07233 Filed 4-10-17; 8:45 am]

BILLING CODE 3510-22-C